COMMISSION ON CIVIL RIGHTS

Agenda and Notice of Public Meeting of the Hawaii State Advisory Committee

Notice is hereby given, pursuant to the provisions of the rules and regulations of the U.S. Commission on Civil Rights and the regulations of the Federal Advisory Committee Act (FACA), that an open session of a subcommittee of the Hawaii State Advisory Committee will convene at 1 p.m. and adjourn at 5 p.m. on Friday, September 14, 2007 in the Performing Arts Center of the Kauai Community College at 3-1901 Kaumualii Hwy, Lihue, Hawaii. The purpose of the meeting is to hear from members of the public on their comments about “The Native Hawaiian Government Reorganization Act of 2007.” Members of the public will make short statements to the Committee.

Members of the pubic are entitled to submit written comments; the comments must be received in the Western Regional Office by September 17, 2007. The address is 300 North Los Angeles Street, Suite 2010, Los Angeles, CA 90012. Persons wishing to e-mail their comments, or to present their comments verbally at the meeting, or who desire additional information should contact Angelica Trevino, Western Regional Office, U.S. Commission on Civil Rights at (213) 894 3437, [TDD 213-894-3435], or by e-mail at hisac@usccr.gov.

Hearing impaired persons who will attend the meeting and require the service of a sign language interpreter should contact the Western Regional Office at least ten (10) working days before the scheduled date of the meeting.

Records generated from this meeting may be inspected and reproduced at the Western Regional Office, as they become available, both before and after the meeting. Persons interested in the work of this advisory committee are advised to go to the Commission's Web site, www.usccr.gov, or to contact the Western Regional Office at the above e-mail or street address.

The meeting will be conducted pursuant to the provisions of the rules and regulations of the Commission and FACA.

Dated at Washington, DC, August 23, 2007.
Ivy L. Davis,
Acting Chief, Regional Programs Coordination Unit.

[FR Doc. 07-4213 Filed 8-27-07; 8:45 am]

BILLING CODE 6335-01-M